FEDERAL COMMUNICATIONS COMMISSION

Notice of Public Information Collection(s) Being Reviewed by the Federal Communications Commission for Extension Under Delegated Authority, Comments Requested

March 7, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 18, 2001. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0355.

Title: Rate of Return Reports.

Form No.: FCC Forms 492 and 492A.

Type of Review: Extension.

Respondents: Business or Other for Profit.

Number of Respondents: 107.

Estimated Time Per Response: 8 hrs (avg.).

Total Annual Burden: 856 hours.

Estimated Annual Reporting and Recordkeeping Cost Burden: $0.

Frequency of Response: On occasion; Annually; Recordkeeping.

Needs and Uses: FCC Form 492 is filed by each local exchange carrier (LEC) or group of carriers who file individual access tariffs or who are not subject to sections 61.41 through 61.49 of the Commission's Rules. Each LEC or group of affiliated carriers subject to the previously stated sections file FCC Form 492A. Both forms are filed annually. The reports contain rate of return information and are needed to enable the Commission to fulfill its regulatory responsibilities.

OMB Control No.: 3060-0789.

Title: Modified Alternative Plan—CC Docket No. 90-571 (1997 Suspension Order).

Form No.: N/A.

Type of Review: Extension.

Respondents: Business or Other for Profit.

Number of Respondents: 35.

Estimated Time Per Response: 13.48 hrs (avg.).

Total Annual Burden: 472 hours.

Estimated Annual Reporting and Recordkeeping Cost Burden: $0.

Frequency of Response: On occasion; Third party disclosure.

Needs and Uses: In CC Docket No. 9-571, the Commission suspended enforcement of the coin sent-paid requirement until 8/26/98. The Commission required that payphones be made accessible to TRS users during the suspension period pursuant to the Alternative Plan as set forth in a Memorandum Opinion and Order and Order issued in CC Docket No. 90-571. Among other things, the Alternative Plan requires the industry to: (1) Send a consumer education letter to TRS centers; (2) inform organizations representing the hearing and speech disability community before attending their regional and national meetings who will be present at the meeting, where the industry booth will be located and at what times the booth will be in operation; (3) publish an article in Consumer Action Network (CAN) respective organizations' magazines or newsletters; (4) send a letter directly to all CAN's members; (5) create laminated cards with visual characters that will provide a pictorial explanation to accompany the text describing access to TRS centers from payphones to be distributed to TRS users; and (6) work jointly with affected communities to draft and submit a report. The Commission imposed the third party disclosure requirements to educate TRS users about their ability to make relay calls from payphones, the payment methods available and the rates for the payphone calls. The report will help the Commission assess the effectiveness of the current consumer education programs.

Federal Communications Commission.
Magalie Roman Salas,
Secretary.

[FR Doc. 01-6636 Filed 3-16-01; 8:45 am]

BILLING CODE 6712-01-U